NATIONAL COMMUNICATIONS SYSTEM

National Security Telecommunications Advisory Committee

AGENCY: National Communications System (NCS).

ACTION: Notice of closed meeting.

SUMMARY: A meeting of the President's National Security Telecommunications Advisory Committee (NSTAC) will be held via conference call on Thursday, December 4, 2003, from 3 p.m. to 4 p.m. The NSTAC is subject to the Federal Advisory Committee Act (FACA), Pub. L. 92-463, as amended (5 U.S.C. App. II). The conference call will be closed to the public to allow for discussion of:

• Industry Analysis of Open Infrastructures Information

• Preliminary Industry Work Products, including Financial Services Task Force Findings/Trusted Access Task Force Update

• Assessment of Impact of a Recent NSTAC Policy Publication

Since revealing details of the industry analysis of open infrastructures could reveal predominantly internal agency records that would significantly risk circumvention of industry regulations intended to protect critical infrastructures, closing this portion of the meeting is consistent with 5 U.S.C. 552b(c)(4). Also, in order to foster a frank discussion on the industry analysis of open infrastructure matters, consistent with 5 U.S.C. 552b(c)(4), it is necessary to close this portion of the meeting to protect proprietary information. Based on the sensitivity of these topics, this conference call will be closed.

FOR FURTHER INFORMATION CONTACT: Call Ms. Kiesha Gebreyes, (703) 607-6134, or write the Manager, National Communications System, 701 South Court House Road, Arlington, Virginia 22204-2198.

Gary D. Amato,
Federal Register Liaison Officer, National Communications System.

[FR Doc. 03-29629 Filed 11-28-03; 8:45 am]

BILLING CODE 5001-08-M